DEPARTMENT OF AGRICULTURE

Federal Advisory Committee for the Expert Review of Synthesis and Assessment Product 4.3 (CERSAP); Nomination Request

AGENCY: Office of the Chief Economist, U.S. Department of Agriculture.

ACTION: Request for nominations to the Committee for the Expert Review of Synthesis and Assessment Product 4.3 (CERSAP).

SUMMARY: The Department of Agriculture (USDA) is inviting nominations for membership on the Committee for the Expert Review of Synthesis and Assessment Product 4.3 (CERSAP). The purpose of the Committee is to provide advice on the conduct of a study titled The Effects of Climate Change on Agriculture, Land Resources, Water Resources, and Biodiversity, to be conducted as part of the U.S. Climate Change Science Program (CCSP). The prospectus for the study titled The Effects of Climate Change on Agriculture, Land Resources, Water Resources, and Biodiversity is on the CCSP Web site at http://www.climatescience.gov/Library/sap/sap4-3/default.htm.

Committee membership will total approximately twelve persons and may include individuals from the Federal Government, State and/or local governments, the scientific community, non-governmental organizations and the private sector, with expertise, experience, and knowledge essential to the successful completion of the study. Nominations for employees of the Department of Agriculture will not be considered.

Nominations must be received within twenty-one days of the date of this Federal Register notice. Any interested person or organization may submit a nomination. Nominations must include a complete resume of the nominee's background, experience and expertise, Form AD755, and any other information considered relevant. Form AD755 is available online through the following Web sites: http://www.usda.gov/oce/global_change/index.htm, http://www.climatescience.gov/Library/sap/sap4-3/default.php, and http://www.sap43.ucar.edu/. Additional avenues and resources will be utilized by USDA in the solicitation of nominees.

ADDRESSES: Submit nominations to: Dr. Margaret Walsh, Global Change Program Office, Office of the Chief Economist, U.S. Department of Agriculture, Room 112-A Whitten Federal Building, 1400 Independence Avenue, SW., Washington, DC 20250-3810; e-mail address: mwalsh@usda.gov, fax: (202) 401-1176.

FOR FURTHER INFORMATION CONTACT: Dr. Margaret Walsh, Global Change Program Office, Office of the Chief Economist, U.S. Department of Agriculture, Room 112-A Whitten Federal Building, 1400 Independence Avenue, SW., Washington, DC 20250-3810; telephone: (202) 720-9978; e-mail address: mwalsh@oce.usda.gov, fax: (202) 401-1176.

SUPPLEMENTARY INFORMATION: A copy of the Committee Charter is available at http://www.fido.gov/facadatabase/. The purpose of the Committee is to provide advice on the conduct of a study titled The Effects of Climate Change on Agriculture, Land Resources, Water Resources, and Biodiversity to be conducted as part of the U.S. Climate Change Science Program (CCSP). CERSAP will advise on the specific issues to be addressed, appropriate technical approaches, the nature of information relevant to decision makers, the content of the final report, compliance with the Information Quality Act, and other matters important to the successful achievement of the objectives of the study. CERSAP will respond specifically to the following seven inquiries related to the report:

1. Are the goals, objectives, and intended audience of the product clearly described in the document? Does the product address all the questions as outlined in the prospectus?

2. Are the findings and recommendations adequately supported by evidence and analysis? If any recommendations are based on value judgments or the collective opinions of the authors, is this acknowledged and are adequate reasons given for reaching those judgments?

3. Are the data and analyses handled competently? Are statistical methods applied appropriately? Are uncertainties and confidence levels evaluated and communicated appropriately?

4. Are the document's presentation and organization effective? Are the questions outlined in the prospectus addressed and communicated in a manner that is appropriate for the intended audiences?

5. Is the document scientifically objective and policy-neutral? Is it consistent with the scientific literature, including recent NRC reports and other scientific assessments on the same topic?

6. Does the summary concisely and accurately describe the content, key findings, and recommendations? Is it consistent with other sections of the document?

7. What significant improvements, if any, might be made in the document?

Individuals and organizations interested in submitting nominations for membership should familiarize themselves with the draft prospectus for this study, which is available at http://www.climatescience.gov/Library/sap/sap4-3/default.htm.

CERSAP is expected to meet twice during 2007 in the Washington, DC area.

Completed nominations should be sent preferably by e-mail. If sent by either fax or regular mail, the sender is encouraged to phone (202) 720-9978 in advance.

Keith Collins,
Chief Economist.

[FR Doc. E7-4874 Filed 3-15-07; 8:45 am]

BILLING CODE 3410-01-P